DEPARTMENT OF TRANSPORTATION

Federal Aviation Administration

14 CFR Part 39

[Docket No. FAA-2013-0499; Directorate Identifier 2013-NE-20-AD; Amendment 39-17673; AD 2013-23-18]

RIN 2120-AA64

Airworthiness Directives; General Electric Company Turbofan Engines

AGENCY: Federal Aviation Administration (FAA), DOT.

ACTION: Final rule.

SUMMARY: We are adopting a new airworthiness directive (AD) for certain General Electric Company (GE) GE90-110B1 and -115B turbofan engines. This AD was prompted by multiple events of a leaking variable bypass valve (VBV) actuator fuel supply tube. This AD requires replacement of this VBV actuator fuel supply tube with a part eligible for installation. We are issuing this AD to prevent failure of the affected fuel supply tube, fuel leakage, engine fire, and damage to the airplane.

DATES: This AD is effective January 7, 2014.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Jason Yang, Aerospace Engineer, Engine Certification Office, FAA, Engine & Propeller Directorate, 12 New England Executive Park, Burlington, MA 01803; phone: 781-238-7747; fax: 781-238-7199; email: jason.yang@faa.gov.

SUPPLEMENTARY INFORMATION:

Discussion

We issued a notice of proposed rulemaking (NPRM) to amend 14 CFR part 39 by adding an AD that would apply to the specified products. The NPRM published in the Federal Register on July, 25, 2013 (78 FR 44899, July 25, 2013). The NPRM proposed to require replacement of the affected VBV actuator fuel supply tube, part number 2165M22P01, with a part eligible for installation.

Comments

We gave the public the opportunity to participate in developing this AD. The following presents the comments received on the proposal and the FAA's response to each comment.

Agreement With the Proposed AD

The Boeing Company and FedEx Express agreed with the AD as proposed.

Request To Change the Compliance Time

GE requested that we change the compliance time in this AD from “at the next shop visit, after the effective date of this AD” to “as soon as possible without effect on revenue service, but before April 1, 2014.” No justification was provided for the change.

We do not agree. Replacement of the VBV actuator fuel supply tube at the next shop visit maintains an acceptable level of safety for the fleet, based on safety risk analysis. We have no data to support that a more aggressive replacement schedule is required to maintain that acceptable level of safety. We did not change the AD.

Conclusion

We reviewed the relevant data, considered the comments received, and determined that air safety and the public interest require adopting this AD as proposed.

Costs of Compliance

We estimate that this AD will affect about 59 engines installed on airplanes of U.S. registry. We also estimate that it will take about eight hours per engine to replace the VBV actuator fuel supply tube. The cost of this part is about $14,310. The average labor rate is $85 per hour. Based on these figures, we estimate the cost of this AD on U.S. operators to be $884,410.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that if justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-23-18 General Electric Company: Amendment 39-17673; Docket No. FAA-2013-0499; Directorate Identifier 2013-NE-20-AD.

(a) Effective Date

This AD is effective January 7, 2014.

(b) Affected ADs

None.

(c) Applicability

This AD applies to General Electric Company (GE) GE90-110B1 and -115B turbofan engines with variable bypass valve (VBV) actuator fuel supply tube, part number (P/N) 2165M22P01, installed.

(d) Unsafe Condition

This AD was prompted by multiple events of a leaking VBV actuator fuel supply tube. We are issuing this AD to prevent failure of the affected fuel supply tube, fuel leakage, engine fire, and damage to the airplane.

(e) Compliance

(1) Comply with this AD within the compliance times specified, unless already done.

(2) At the next shop visit, after the effective date of this AD, replace the VBV actuator fuel supply tube, P/N 2165M22P01, with a part eligible for installation.

(f) Definition

For the purpose of this AD, a shop visit is the induction of an engine into the shop for maintenance or overhaul. The separation of engine flanges solely for the purposes of transporting the engine without subsequent engine maintenance does not constitute an engine shop visit.

(g) Installation Prohibition

After the effective date of this AD, do not install any VBV actuator fuel supply tube, P/N 2165M22P01, onto any engine.

(h) Alternative Methods of Compliance (AMOCs)

The Manager, Engine Certification Office, FAA, may approve AMOCs for this AD. Use the procedures in 14 CFR 39.19 to make your request.

(i) Related Information

For more information about this AD, contact Jason Yang, Aerospace Engineer, Engine Certification Office, FAA, 12 New England Executive Park, Burlington, MA 01803; phone: 781-238-7747; fax: 781-238-7199; email: jason.yang@faa.gov.

(j) Material Incorporated by Reference

None.

Issued in Burlington, Massachusetts, on November 14, 2013.
Frank P. Paskiewicz,
Acting Director, Aircraft Certification Service.

[FR Doc. 2013-28866 Filed 12-2-13; 8:45 am]

BILLING CODE 4910-13-P